DEPARTMENT OF HOMELAND SECURITY

Coast Guard

[Docket No. USCG-2023-0586]

National Commercial Fishing Safety Advisory Committee; September 2023 Meetings

AGENCY: United States Coast Guard, Department of Homeland Security.

ACTION: Notice of availability of recommendations and request for comments.

SUMMARY: The U. S. Coast Guard announces the availability of recommendations from the National Commercial Fishing Safety Advisory Committee (NCFSAC). The Committee met in September 2023 and sent eight recommendations to the Secretary of Homeland Security. The U.S. Coast Guard issues this Notice as the mechanism for receiving public comments and requests public comments on the recommendations.

DATES: Comments must be submitted on or before April 8, 2024.

ADDRESSES: You may submit comments identified by docket number USCG-2023-0586 using the Federal Decision Making Portal at https://www.regulations.gov. See the “Public Participation and Request for Comments” portion of the SUPPLEMENTARY INFORMATION section for further instructions on submitting comments.

FOR FURTHER INFORMATION CONTACT: For information about this document email questions to Jonathan.G.Wendland@uscg.mil or call 202-372-1245.

SUPPLEMENTARY INFORMATION:

Public Participation and Comments

We encourage you to submit comments (or related material) on the committee recommendations. If you submit a comment, please include the docket number for this notice, indicate the specific recommendation to which each comment applies, and provide a reason for each suggestion.

Submitting comments. We encourage you to submit comments through the Federal Decision Making Portal at http://www.regulations.gov. To do so, go to https://www.regulations.gov, type USCG-2023-0586 in the search box and click “Search.” Next, look for this document in the Search Results column, and click on it. Then click on the Comment option. If your material cannot be submitted using http://www.regulations.gov, contact the FOR FURTHER INFORMATION CONTACT section of this document for alternate instructions.

Viewing material in docket. To view documents mentioned in this notice as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

Personal information. We accept anonymous comments. Comments we post to https://www.regulations.gov will include any personal information you have provided. You may wish to view the Privacy & Security Notice and the User Notice, which are both available on the homepage of https://www.regulations.gov, and DHS's eRulemaking System of Records notice (85 FR 14226, March 11, 2020).

Discussion

The National Commercial Fishing Safety Advisory Committee is authorized by section 601 of the Frank LoBiondo Coast Guard Authorization Act of 2018, (Pub. L. 115-282, 132 Stat. 4190), and is codified in 46 U.S.C. 15102. The Committee operates under the provisions of the Federal Advisory Committee Act and 46 U.S.C. 15109.

The National Commercial Fishing Safety Advisory Committee provides advice and recommendations to the Secretary of Homeland Security through the Commandant of the U. S. Coast Guard, on matters relating to the safe operation of vessels. Additionally, the Committee will review regulations proposed under chapter 45 of title 46 of U.S Code (during preparation of the regulations) and review marine casualties and investigations of vessels covered by chapter 45 of title 46 U.S. Code and make recommendations to the Secretary to improve safety and reduce vessel casualties.

The National Commercial Fishing Safety Advisory Committee (the committee) met from September 26, 2023 to September 28, 2023 (88 FR 60961).¹ The U. S. Coast Guard issued 10 tasks to the committee, and the committee sent eight recommendations to the Secretary based on those tasks. As required by 46 U.S.C. 15109(j)(3)(B), the U.S. Coast Guard is establishing a mechanism for the submission of public comments on these recommendations.

¹ The U.S. Coast Guard gave public notice of this meeting on September 6, 2023. 88 FR 60961.

Description of Task #04-23: Review the multi-year statistics (provided by the U.S. Coast Guard) regarding commercial fishing vessels of less than 200 gross ton accidents or losses that resulted in fatalities, injuries, or property damage. Major marine casualties such as the loss of the DESTINATION, NO LIMITS, and other fishing vessels with multiple fatalities and vessel losses should be reviewed to provide the background information necessary to other supplementary taskings in best efforts to make informed recommendations to the U.S. Coast Guard.

NCFSAC Task #04-23 Recommendation: Following review, no Committee recommendations were made to the U.S. Coast Guard.

Description of Task #05-23: Examine and make recommendations to the U.S. Coast Guard on best practices to reduce and mitigate the negative consequences caused by the misalignment of state and federal regulations regarding drug laws legalizing the recreational and/or medical use for drugs also classed as dangerous drugs by federal law and applicable transportation related statutes. This is critical for the safety of operations and creating an environment for vessel personnel to work in a drug-free workplace, with special emphasis on critical safety sensitive jobs such as navigation and engineering duties to bring fishing vessels into alignment with other commercial vessels. Develop recommendations that include testing for pre-employment, routine, and reasonable cause.

NCFSAC Task #05-23 Recommendation: Following review, no Committee recommendations were made to the U.S. Coast Guard.

Description of Task #06-23: Examine and effectively disseminate recommendations for best practices to ensure full crew access to all parts of a vessel to allow for safe vessel operation. This task should address and examine things like a means to access all areas of the vessel and allow the crew to safely move fore and aft to remove ice, inspect the vessel, and operate critical equipment like the vessel's anchors and similar gear that does not require the crew to climb over the pot stack (for example, in the case of a vessel carrying pots, nets or similar devices to create pathways for access).

NCFSAC Task #06-23 Recommendation:

A. In so much as is practicable, all spaces subject to flooding and/or necessary spaces for safe vessel operation should be accessible by crew during normal operations.

B. In the event this is impractical, and access is over stacked deck equipment (i.e., pot stacks or deck cargo) the committee recommends establishing vessel procedures which may include the use of tag lines, the buddy system, Personal Flotation Device worn, Personal locator Beacons Man Overboard beacon's etc.

C. For spaces where access may be blocked, consideration may be given to supplementing high water alarms with infrared cameras, increased maintenance frequency on watertight seals, dogs, knife edges, etc., and also on bilge level alarms. Consideration may be given as well to secondary means of de-watering (i.e., deck connection for a de-watering/trash pump).

Description of Task #07-23: Establish best practices for standard procedures and guidance for crew standing navigation watches. This should include a detailed crew orientation for each unique vessel, including the operation of critical equipment and establish clear and easily understood watchstanding orders to protect the safety of the vessel during its applicable operations. This could be accomplished as a standardized form or checklist.

NCFSAC Task 07-23 Recommendation:

A. The committee recommends that the Voluntary Safety Initiatives and Good Marine Practices Document is updated to include a section on “Best Practices for Standing Navigational Watch” This section should include the following statement.

1. The individual in charge of the vessel should have a watchstanding policy for their vessel and any crew member standing a navigational watch should be informed and understand the responsibilities stated in the policy.

2. The policy may contain items such as:

i. Be familiar with the use and operation of the vessel's engine and gear controls.

ii. Be familiar with the use and operation of the vessel's Electronic Navigation Systems (ENS)

iii. Be familiar with the use and operation of the vessel's Radar, Depth Sounder, Autopilot, and AIS (Automatic Identification System). Further the CM will understand the use and operation of ARPA (Automatic Radar Plotting Aid) and the use and operation of AIS both with Radar and ENS and know how to determine CPA (Closet Point of Approach).

iv. Be familiar with the Vessel's Rules of the Road handbook and understand how they apply to watch standing on the vessel.

v. Be familiar with the use and operation of the Vessel's VHF radios, and will understand the need to monitor Channels 16, a common traffic and distress frequency, and Channel 13, a common vessel to vessel frequency.

vi. Be familiar with the use and operation of the Vessel's Watch Alarm, and ensure it is set for an appropriate period, generally 10 minutes after dusk, and 15 minutes during daylight hours.

vii. Be familiar with the use and operation of the vessels Navigation Lighting and will ensure the proper outlook is had.

viii. Be familiar with the use and operation of the Vessel's Fishing Lights and know their appropriate usage.

ix. If the crew member is unsure of their observations, they should immediately notify the Individual in Charge.

B. The committee recommends that the U.S. Coast Guard change the name of the

Voluntary Safety Initiatives and Good Marine Practices document to “Commercial Fishing Vessel Best Safety Practices.”

Description of Task #08-23: Evaluate and provide a comprehensive list of recommendations to the U.S. Coast Guard, in the form of best practices (NVICs, policies, training), or amended or new regulations, regarding stability considerations which may pose severe risk to the safety of a fishing vessel such as icing, loading, the need for stability instructions, and vessel modifications. As part of this task, review the U.S. Coast Guard current level of oversight, provide recommendations on its adequacy, and specify needed changes to areas of the fishing safety program that need additional attention.

NCFSAC Task #08-23 Recommendation:

A. Operators of commercial fishing vessels of any sizes are encouraged as a best practice to attend a commercial fishing vessel stability training program. Operators are encouraged to share their experiences/stories of stability related issues in training. Where applicable, operators are encouraged to bring their vessel-specific stability instructions to this training.

B. Operators of commercial fishing vessels are encouraged as a best practice to implement procedures prior to departing port, such as observation of the vessel's trim, check condition of freeing ports and scuppers, watertight/weathertight doors, and closures if applicable. 08-23 Recommendations to the USCG

C. With regard to smaller vessels, the committee advises the U.S. Coast Guard look at other agencies, port controls on how they are implementing best practices for vessel stability safety (i.e., MCA recommendations regarding the Wolfson method).

D. The committee recommends that the USCG provides formalized training to its FV Examiners on the topic of compliance with vessel stability regulations, specific to the U.S. Coast Guard District and fleets within the District (i.e., vessel service).

Description of Task #09-23: Evaluate and provide recommendations to the U.S. Coast Guard for best practices to address the high degree of risk associated with fishing vessel operations and how the acceptance of risk is prevalent and accepted in the fishing industry. Specifically, the Marine Board recommends the committee focus on topics including icing, heavy weather avoidance in voyage planning, and formalizing the navigation watch duties via onboard familiarization and written standard orders to ensure the safety of vessel during its transit and during fishing operations.

NCFSAC Task #09-23 Recommendation:

A. U.S. Coast Guard liaise with industry to understand and identify training needs addressing risks specific to individual fisheries. This can be accomplished in conjunction with dockside safety examinations, during industry events, (i.e., Pacific Marine Expo) or other forums, and social media. The committee understands some of these training needs may be broadly identified, whereas others may be very specific, based on fishery.

B. U.S. Coast Guard then work with industry to develop fishery specific training programs for implementation.

Description of Task #10-23: Evaluate and provide recommendations to the U.S. Coast Guard to ensure the most effective means to widely disseminate critical safety information for the commercial fishing industry.

NCFSAC Task #10-23 Recommendation: U.S. Coast Guard CVC-3 use it's FVS examiner network, fishing journals and other internet and printed materials to promote the U.S. Coast Guard website as a resource for commercial fishermen.

Description of Task #11-23: Review and provide recommendations on the development of a publicly accessible website that contains all information related to fishing industry activities, including vessel safety, inspections, enforcement, hazards, training, regulations (including proposed regulations), outages of the Rescue 21 system in Alaska and similar outages, and any other fishing-related activities.

NCFSAC Task #11-23 Recommendation: U.S. Coast Guard continue the development of a publicly accessible website as required by Coast Guard Authorization Act 2022 Sec 11322 that contains all information related to fishing industry activities. The publicly accessible website should have a button at the bottom of each page to provide suggestions or feedback to [“improve this page”]. This website should be available to the full committee for suggestions on improvements for 6 weeks prior to the site going live. Additionally, we encourage the U.S. Coast Guard to measure the analytics and usage rates for ongoing development of the website, so it is a more useful resource for fisherman.

Description of Task #12-23: Discuss and make recommendations requiring watch alarms on specific types of commercial fishing vessels.

NCFSAC Task #12-23 Recommendation: U.S. Coast Guard initiate a rule making that would require Watch Alarms on vessels 36 feet and over that operate outside the Boundary Line as defined in 46 CFR part 7.

Description of Task #13-23: Examine and make recommendations to the U.S. Coast Guard on a way to widely distribute personal location beacons at minimal expense. Ensure availability and access for crewmembers of these critical lifesaving devices which could be acquired by consortiums, associations, or other organizations for distribution to vessel crews through federally funded grant programs or other programs.

NCFSAC Task #13-23 Recommendation: U.S. Coast Guard encourage the availability of FCC approved Personal Location Beacons at reduced cost through grants or funding through such as the U.S. Coast Guard/NIOSH research and training grants, Alaska CDQ programs, Sea Grant Regions, local fishing organizations and/or other non-profits or entities.

The NCFSAC recommendations are available in the docket and also can also be found on our website at https://www.dco.uscg.mil/NCFSAC2023/or going to https://www.uscg.mil and clicking on the following links: United States Coast Guard > Our Organization > Assistant Commandant for Prevention Policy (CG-5P) > Inspections & Compliance (CG-5PC) > Commercial Vessel Compliance > Fishing Vessel Safety Division > NATIONAL COMMERCIAL FISHING VESSEL ADVISORY COMMITTEE > MEETINGS >2023 and clicking on the link “USCG Comments to NCFSAC SEATTLE RECOMMENDATIONS”

We invite public comments on these recommendations.

Dated: January 3, 2024.
Amy M. Beach,
Captain, U.S. Coast Guard, Director of Inspections and Compliance.

[FR Doc. 2024-00105 Filed 1-5-24; 8:45 am]

BILLING CODE 9110-04-P